FEDERAL COMMUNICATIONS COMMISSION

47 CFR Part 73

[MB Docket No. 17-106, FCC 17-137]

Elimination of Main Studio Rule; Correction

AGENCY: Federal Communications Commission.

ACTION: Final rule; correction.

SUMMARY: The Federal Communications Commission (FCC) is correcting an announcement of effective date for a final rule that appeared in the Federal Register on December 18, 2017. In the last sentence of the Supplementary Information section of that document, the stated effective date of January 8, 2017 should have been January 8, 2018.

DATES: Effective January 8, 2018.

FOR FURTHER INFORMATION CONTACT: Diana Sokolow, Policy Division, Media Bureau, at (202) 418-2120, or email: diana.sokolow@fcc.gov.

SUPPLEMENTARY INFORMATION: In FR Doc. 2017-27197 appearing on page 59987 of the Federal Register on Monday, December 18, 2017, the last sentence of the “Supplementary Information” section is corrected to read as follows:

“Because we received OMB approval for the non-substantive change request in advance of the effective date for the rule changes that did not require OMB approval, all of the rule changes contained in the Commission's Order, FCC 17-137, will share the same effective date of January 8, 2018.”

Federal Communications Commission.
Marlene H. Dortch,
Secretary.

[FR Doc. 2017-27981 Filed 12-27-17; 8:45 am]

BILLING CODE 6712-01-P